ENVIRONMENTAL PROTECTION AGENCY

[FRL-8918-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2357.01; Regulations.gov Exchange Information Collection; was approved 05/18/2009; OMB Number 2025-0008; expires 11/30/2009.

EPA ICR Number 2163.03; NSPS for Other Solid Waste Incineration (OSWI) Units (Renewal); in 40 CFR part 60, subpart EEEE; was approved 05/21/2009; OMB Number 2060-0563; expires 05/31/2012.

EPA ICR Number 1821.06; NESHAP for Steel Pickling, HCI Process Facilities and Hydrochloric Acid Regeneration Plants (Renewal); in 40 CFR part 63, subpart CCC; was approved 05/21/2009; OMB Number 2060-0419; expires 05/31/2012.

EPA ICR Number 2288.01; Pesticides Data Call In Program; in 40 CFR parts 154 and 155; was approved 05/27/2009; OMB Number 2070-0174; expires 05/31/2012.

EPA ICR Number 1084.10; NSPS for Nonmetallic Mineral Processing (Final Rule); in 40 CFR part 60, subpart OOO; was approved 06/01/2009; OMB Number 2060-0050; expires 06/30/2012.

EPA ICR Number 2183.03; Drug Testing for Contractor Employees (Renewal); in 5 CFR parts 731, 732 and 736; was approved 06/02/2009; OMB Number 2030-0044; expires 06/30/2012.

OMB Comments Filed

EPA ICR Number 2300.02; Regulation to Establish Mandatory Reporting of Greenhouse Gases (Proposed Rule); OMB filed comment on 05/21/2009.

Dated: June 9, 2009.
John Moses,
Director, Collection Strategies Division.

[FR Doc. E9-14014 Filed 6-12-09; 8:45 am]

BILLING CODE 6560-50-P